DEPARTMENT OF COMMERCE

National Oceanic and Atmospheric Administration

50 CFR Part 697

[Docket No. 00824246—0294—03; I.D. 062700F]

RIN 0648-AO33

Horseshoe Crab; Interstate Fishery Management Plans; Cancellation of Moratorium

AGENCY: National Marine Fisheries Service (NMFS), National Oceanic and Atmospheric Administration (NOAA), Commerce.

ACTION: Cancellation of Federal moratorium; final rule.

SUMMARY: The Secretary of Commerce (Secretary) announces the cancellation of the Federal moratorium on fishing for horseshoe crabs in the Commonwealth of Virginia (Virginia) waters and the removal of regulations prohibiting the possession of horseshoe crabs in Virginia waters and the landing of horseshoe crabs in Virginia, regardless of where they were caught. The Secretary cancelled the moratorium, as required by the Atlantic Coastal Fisheries Cooperative Management Act (Act), based on his determination that Virginia is now in compliance with the Atlantic States Marine Fisheries Commission’s (Commission) Interstate Fishery Management Plan (ISFMP) for horseshoe crabs.

DATES: Effective October 26, 2000.

FOR FURTHER INFORMATION CONTACT: Richard H. Schaefer, Chief, Staff Office for Intergovernmental and Recreational Fisheries, NMFS, 301-427-2014.

SUPPLEMENTARY INFORMATION:

Background

On July 7, 2000, National Marine Fisheries Service (NMFS) determined that Virginia was not in compliance with Addendum 1 to the Commission’s ISFMP for horseshoe crabs and that the measure Virginia failed to implement is necessary for the conservation of the fishery in question. Virginia was notified by letter on July 11, 2000, of this determination, and that NMFS required additional time to analyze the timing and nature of the moratorium’s implementation before issuing a declaration of a moratorium and a rule necessary to implement Section 806 of the Act.

On October 16, 2000 (65 FR 61116), the Secretary declared a Federal moratorium effective October 23, 2000, on fishing for horseshoe crabs in Virginia waters and issued regulations prohibiting the possession of horseshoe crabs in Virginia waters and the landing of horseshoe crabs in Virginia, regardless of where they were caught. Details were provided in the October 16, 2000, Federal Register document and are not repeated here. On October 20, 2000, the Secretary stayed the effective date of the moratorium and associated regulations until October 27, 2000, because Virginia was in the process of implementing regulations to reduce its horseshoe crab quota. This stay was filed on October 20, 2000, at the Office of the Federal Register, effective October 23, 2000, and published in the Federal Register on October 24, 2000 (65 FR 63550).

The Act specifies that, if, after a moratorium is declared with respect to a State, the Secretary is notified by the Commission that it is withdrawing the determination of noncompliance, the Secretary shall immediately determine whether the State is in compliance with the applicable plan. If the State is determined to be in compliance, the moratorium shall be terminated.

Activities Pursuant to the Act

On October 20, 2000, the Secretary received a letter from the Commission prepared pursuant to the Act. The Commission's letter stated that Virginia had taken corrective action to comply with Addendum 1 to the Commission’s ISFMP for horseshoe crabs, and, therefore, the Commission was withdrawing its determination of noncompliance.

Cancellation of the Moratorium

Based on the Commission's October 20, 2000, letter, information received from the Virginia, and the Secretary’s review of Virginia’s revised regulations, which reduced its quota of horseshoe crabs from 355,000 horseshoe crabs to 152,495 horseshoe crabs as required by Addendum 1, the Secretary concurs with the Commission’s determination that Virginia is now in compliance with Addendum 1 to the Commission's ISFMP for horseshoe crabs. Therefore, the moratorium on fishing for horseshoe crabs in Virginia waters is cancelled, and the associated regulations removed.

Changes from Interim Final Rule

These changes were due to the cancellation of the moratorium and associated regulations. The definition of horseshoe crab in § 697.2 is removed, and in § 697.7, paragraph (e) is removed. This paragraph includes the provision that it is unlawful for any person to possess horseshoe crabs in Virginia waters or land horseshoe crabs in Virginia, regardless of where they were harvested.

List of Subjects in 50 CFR Part 697

Fisheries, Fishing, Intergovernmental relations.

Dated: October 25, 2000.
William T. Hogarth,
Deputy Assistant Administrator for Fisheries, National Marine Fisheries Service.

For the reasons set out in the preamble, the regulatory text which was added as an interim rule to part 697 at 65 FR 61116 on October 16, 2000, and amended at 65 FR 63550 on October 24, 2000, is amended as follows:

PART 697—ATLANTIC COASTAL FISHERIES COOPERATIVE MANAGEMENT

1. The authority citation for 50 CFR part 697 continues to read as follows:

Authority: 16 U.S.C. 5101 et seq.

§ 697.2 [Amended]

2. In § 697.2, definition for “Horseshoe crab” is removed.

§ 697.7 [Amended]

3. In § 697.7, paragraph (e) is removed.

[FR Doc. 00-27866 Filed 10-26-00; 1:08 pm]

BILLING CODE 3510-22-S